ENVIRONMENTAL PROTECTION AGENCY

[FRL-8738-4]

Environmental Protection Agency EPA

New York State Prohibition of Marine Discharges of Vessel Sewage; Receipt of Petition and Final Affirmative Determination

ACTION: Notice.

SUMMARY: Notice is hereby given that a petition has been received from the State of New York requesting a determination by the Regional Administrator, U.S. Environmental Protection Agency (EPA), that adequate facilities for the safe and sanitary removal and treatment of sewage from all vessels are reasonably available for Oyster Bay/Cold Spring Harbor Complex, New York. The waters of the proposed No Discharge Zone fall within the jurisdictions of the Town of Oyster Bay, the Town of Huntington, the Village of Bayville, the Village of Bayville, the Village of Centre Island, the Village of Cove Neck, the Village of Lattingtown, the Village of Laurel Hollow, the Village of Lloyd Harbor, the Village of Mill Neck, the Village of Oyster Bay Cove, the County of Nassau, and the County of Suffolk. These entities submitted an application prepared by Cashin Associates, P.C. for the designation of a Vessel Waste No Discharge Zone. New York State Department of Environmental Conservation certified the need for greater protection of the water quality.

EPA published a Tentative Affirmative Determination on July 15, 2008, in the Federal Register.

Public comments were solicited for 30 days and the comment period ended on August 14, 2008.

Comments were received from three individuals, one stating that EPA should not blame the boaters for water quality problems, one supporting the proposed NDZ and one who finds that pumpout facilities are sometimes inoperable and that fines should be levied against the marinas that cannot provide the pumpout service on which our determinations are based.

Regarding the first comment of “blaming the boaters,” Section 312(f)(3) of the Clean Water Act allows States to prohibit the discharge of sewage, whether treated or untreated, from vessels for the greater protection and enhancement of water quality. EPA determines whether adequate facilities, for the safe and sanitary removal and treatment of the sewage, are reasonably available. We have found the facilities in the proposed areas are reasonably available and recommend finalizing our determination. Regarding the third comment, the Clean Water Act Section 312(f) does not provide for the assessment of fines against marinas for inoperable pumpouts. In the past, when we have been made aware of inoperable or inaccessible pumpouts we have contacted the State agencies and requested their assistance in resolution of the matter. The situation has always been resolved as expeditiously as possible. EPA will continue to refer complaints about non-operational pumpouts to the appropriate State and local authorities when such complaints are received.

SUPPLEMENTARY INFORMATION: Notice is hereby given that a petition has been received from the State of New York requesting a determination by the Regional Administrator, U.S. Environmental Protection Agency, pursuant to section 312(f)(3) of Public Law 92-500 as amended by Public Law 95-217 and Public Law 100-4, that adequate facilities for the safe and sanitary removal and treatment of sewage from all vessels are reasonably available for Oyster Bay/Cold Spring Harbor Complex and its harbors and creeks within the following boundary:

South of a line drawn from Rocky Point on Centre Island in west to Caumsett State Park in the east. The Complex encompasses 6400 acres of open water and intertidal area. The waterbodies included in the Complex are Oyster Bay Harbor between Bayville Bridge and Plum Point on Centre Island, Mill Neck Creek to the west of Bayville Bridge, Cold Spring Harbor south of a line between Cooper bluff in Cove Neck and West Neck Beach in the Village of Lloyd Harbor, and Oyster Bay between Centre Island and the Lloyd Neck peninsula that connects Oyster Bay Harbor and Cold Spring Harbor to Long Island Sound.

New York has provided documentation indicating that the total vessel population is estimated to be 2,000 in the proposed area. Based upon boat census data, approximately 1000 to 1500 vessels would be equipped with a Type III marine sanitation device (holding tank). Four pumpout facilities are operational in the Complex, these facilities are Roosevelt Marina, Powles Marina, Town of Oyster Bay Pumpout Barges (2-East and West), and Town of Oyster Bay Pumpout Vessel. Based upon the criteria cited in the Clean Vessel Act (a pumpout facility can adequately service 300 to 600 vessels) and based upon the vessel population, the Complex requires approximately three to six pumpout facilities. The harbor has five facilities operational which satisfies the criteria. An additional pumpout boat is available when needed.

Roosevelt Marina Pumpout is located at 40°52.635″ N/73°31.805″ W. The pumpout is available 24 hours per day and 365 days a year. The contact for information on the pumpout is the Town of Oyster Bay, Roosevelt Marina Pumpout, VHF Channel 9 or 516-797-4110. The facility fee is free. Vessel limitations are 36 feet in length and 4 feet in draft at dead low tide. The collected vessel sewage is discharged to the sewer and treated at the Oyster Bay Sewer District Wasterwater Treatment Plant.

Powles Marina Pumpout is at 40°52′31.17″ N/73°28′17.94″ W. The pumpout is available 24 hours per day from Mid-April to October 31, seven days a week. The contact for information is the Powles Marina at 631-367-7670 or VHF Channel 9. The facility fee is free. Vessel limitations are 50 feet in length and 5 feet in draft at low tide. The pumpout facility is serviced by the town sewage truck.

Town of Oyster Bay Pumpout Barges are located at 40°52.657″ N/73°31.456″ W and 40°52.804″ N/73°32.264″ W. The barges are available Mid-April through October 31, 24 hours a day, 7 days per week. The contact for information is Oyster Bay Pumpout Barge on VHF Channel 9. The facility fee is free. Vessel limitations are location dependent. The pumpout barges offload vessel sewage at the Roosevelt Marina Pumpout.

The Town of Oyster Bay Pumpout Vessel operates in the Complex and is available Mid-April through October 31, Thursday through Sunday, from 10 am until 6 pm. The contact for information is the Town of Oyster Bay Pumpout Vessel on VHF Channel 9. The facility fee is free. The Roosevelt Marina Pumpout is used for disposal sewage from the pumpout boat and the marina pumpout discharges to the Oyster Bay Sewer District wastewater treatment plant.

The EPA hereby makes a final affirmative determination that adequate facilities for the safe and sanitary removal and treatment of sewage from all vessels are reasonably available for the Oyster Bay/Cold Spring Harbor Complex in the Counties of Nassau and Suffolk, New York.

Dated: October 16, 2008.
Alan J. Steinberg,
Regional Administrator, Region 2.

[FR Doc. E8-26497 Filed 11-5-08; 8:45 am]

BILLING CODE 6560-50-P